FEDERAL RETIREMENT THRIFT INVESTMENT BOARD

Sunshine Act; Notice of Meeting

TIME AND DATE: 12:00 p.m. (Eastern Time), December 13, 2012.

PLACE: 10th Floor Conference Room, 77 K Street, NE., Suite 1000, Washington, DC 20002.

STATUS: Will be closed to the public.

MATTERS TO BE CONSIDERED:

Part Closed to the Public

1. Personnel

CONTACT PERSON FOR MORE INFORMATION: Kimberly A. Weaver, Director, Office of External Affairs, (202) 942-1640.

Dated: December 6, 2012.
James B. Petrick,
Secretary, Federal Retirement Thrift Investment Board.

[FR Doc. 2012-29934 Filed 12-7-12; 11:15 am]

BILLING CODE 6760-01-P